DEPARTMENT OF ENERGY

Federal Energy Regulatory Commission

[Project No. 2586-024]

Alabama Electric Cooperative, Inc.; Notice of Availability of Environmental Assessment

September 23, 2005.

In accordance with the National Environmental Policy Act of 1969 and part 380 of the Federal Energy Regulatory Commission's (Commission) regulations, 18 CFR part 380; FERC Order No. 486 and 52 FR 47,897, the Office of Energy Projects has reviewed the application for a new license for the Conecuh River Project, located on the Conecuh River, in Covington County, Alabama, and has prepared a single environmental assessment (EA) for the project. The project does not use or occupy any Federal facilities or lands.

In the EA, Commission staff analyzes the potential environmental effects of the existing project and concludes that licensing the project, with staff's recommended measures, would not constitute a major Federal action significantly affecting the quality of the human environment.

A copy of the EA is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. You may also register online at http://www.ferc.gov/docs-filing/esubscription.asp to be notified via e-mail of new filings and issuances related to this or other pending projects. For assistance, contact FERC Online Support.

Please file any comments (an original and 8 copies) within 30 days from the date of this letter. The comments should be addressed to Magalie R. Salas, Secretary, Federal Energy Regulatory Commission, 888 First Street, NE., Washington, DC 20426. Please affix “Conecuh River Project No. 2586-024” to all comments. Comments may be filed electronically via the Internet in lieu of paper. See (18 CFR 385.2001(a)(1)(iii) and the instructions on the Commission's Web site at http://www.ferc.gov under the “e-filing” link. The Commission strongly encourages electronic filings.

Please contact Carolyn Holsopple at (202) 502-6407, or by e-mail at carolyn.holsopple@ferc.gov if you have any questions.

Magalie R. Salas,
Secretary.

[FR Doc. E5-5378 Filed 9-30-05; 8:45 am]

BILLING CODE 6717-01-P